DEPARTMENT OF EDUCATION

[Docket ID ED-2016-FSA-0011]

Privacy Act of 1974; System of Records

AGENCY: Federal Student Aid, Department of Education.

ACTION: Notice of an altered system of records.

SUMMARY: In accordance with the Privacy Act of 1974, as amended (Privacy Act), the Chief Operating Officer for Federal Student Aid (FSA) of the U.S. Department of Education (the Department) publishes this notice to revise the system of records entitled “Health Education Assistance Loan (HEAL) program” (18-11-20).

The Department publishes this notice to propose to revise programmatic routine use (18) (routine use (15) in the system of records notice published in the Federal Register on June 26, 2014 (79 FR 36299, 36301)) to include the Federal Register, and a Defaulted Borrowers Web site (should the Department elect to reestablish this or a similar Web site), as locations where the Department may publish the names of defaulted HEAL program borrowers (and any other fields the Department intends to publish, e.g., area of practice).

DATES: Submit your comments on this altered system of records notice on or before February 22, 2017.

The Department has filed a report describing the altered system of records covered by this notice with the Chair of the Senate Committee on Homeland Security and Governmental Affairs, the Chair of the House Committee on Oversight and Government Reform, and the Administrator of the Office of Information and Regulatory Affairs, Office of Management and Budget (OMB) on January 6, 2017. This altered system of records will become effective on the later date of: (1) The expiration of the 40-day period for OMB review on February 16, 2017, unless OMB waives 10 days of the 40-day review period for compelling reasons shown by the Department; or (2) February 22, 2017, unless the altered system of records notice needs to be changed as a result of public comment or OMB review. The Department will publish any changes to the altered system of records notice that result from public comment or OMB review.

ADDRESSES: Submit your comments through the Federal eRulemaking Portal or via postal mail, commercial delivery, or hand delivery. We will not accept comments submitted by fax or by email or those submitted after the comment period. To ensure that we do not receive duplicate copies, please submit your comments only once. In addition, please include the Docket ID at the top of your comments.

• Federal eRulemaking Portal: Go to www.regulations.gov to submit your comments electronically. Information on using Regulations.gov, including instructions for accessing agency documents, submitting comments, and viewing the docket, is available on the site under the “help” tab.

• Postal Mail, Commercial Delivery, or Hand Delivery: If you mail or deliver your comments about this altered system of records, address them to: Valerie Sherrer, Director, Systems Integration Division, Systems Operations and Aid Delivery Management Services, Business Operations, Federal Student Aid, U.S. Department of Education, 830 First Street, NE., Union Center Plaza (UCP), room 44F1, Washington, DC 20202-5454.

Privacy Note: The Department's policy is to make all comments received from members of the public available for public viewing in their entirety on the Federal eRulemaking Portal at www.regulations.gov. Therefore, commenters should be careful to include in their comments only information that they wish to make publicly available.

Assistance to Individuals with Disabilities in Reviewing the Rulemaking Record: On request, we will supply an appropriate accommodation or auxiliary aid to an individual with a disability who needs assistance to review the comments or other documents in the public rulemaking record for this notice. If you want to schedule an appointment for this type of accommodation or auxiliary aid, please contact the person listed under FOR FURTHER INFORMATION CONTACT.

FOR FURTHER INFORMATION CONTACT: Valerie Sherrer, Director, Systems Integration Division, Systems Operations and Aid Delivery Management Services, Business Operations, Federal Student Aid, U.S. Department of Education, UCP, 830 First Street, NE., room 44F1, Washington, DC 20202-5454. Telephone number: (202) 377-3547.

If you use a telecommunications device for the deaf (TDD) or a text telephone (TTY), you may call the Federal Relay Service (FRS), toll free, at 1-800-877-8339.

SUPPLEMENTARY INFORMATION:

Introduction

Under division H, title V, section 525 of the Consolidated Appropriations Act, 2014 (Pub. L. 113-76) and title VII, part A, subpart I of the Public Health Service Act, the authority to administer the HEAL program, including servicing, collecting, and enforcing any loans made under the program that remain outstanding, was transferred from the Secretary of Health and Human Services to the Secretary of Education on July 1, 2014, the date of the enactment of the Consolidated Appropriations Act, 2014.

The HEAL program system of records covers records for all activities that the Department carries out with regard to servicing, collecting, and enforcing Federal student loans made under title VII, part A, subpart I of the Public Health Service Act that remain outstanding. The HEAL program system also contains records of transactions performed by the Department to carry out the purposes of this system of records. The Privacy Act (5 U.S.C. 552a(e)(4) and (11)) requires Federal agencies to publish in the Federal Register this notice of an altered system of records. The Department's regulations implementing the Privacy Act are contained in part 5b of title 34 of the Code of Federal Regulations (CFR).

The Privacy Act applies to records about individuals that contain individually identifying information and that are retrieved by a unique identifier associated with each individual, such as a name or Social Security number. The information about each individual is called a “record,” and the system, whether manual or computer-based, is called a “system of records.”

Whenever the Department makes a significant change to an established system of records, the Privacy Act requires the Department to publish a notice of an altered system of records in the Federal Register and to prepare and send a report to the Chair of the Committee on Oversight and Government Reform of the House of Representatives, the Chair of the Committee on Homeland Security and Governmental Affairs of the Senate, and the Administrator of the Office of Information and Regulatory Affairs, OMB. These reports are intended to permit an evaluation of the probable effect of the proposal on the privacy rights of individuals.

A change to a system of records is considered to be a significant change that must be reported whenever an agency expands the types or categories of information maintained, significantly expands the number, types, or categories of individuals about whom records are maintained, changes the purpose for which the information is used, changes the equipment configuration in a way that creates substantially greater access to the records, or adds a routine use disclosure to the system.

The Department of Education previously published the HEAL program system of records in the Federal Register on June 26, 2014 (79 FR 36299). This notice will revise programmatic routine use (18) (formerly routine use (15)) to include the Federal Register, and a Defaulted Borrowers Web site, should the Department elect to reestablish this or a similar Web site, as locations where the Department may publish the names of defaulted HEAL program borrowers (and any other fields the Department intends to publish, e.g., area of practice). Former programmatic routine use (15) included only the Defaulted Borrowers Web site as the location for this information to be published.

Accessible Format: Individuals with disabilities can obtain this document in an accessible format (e.g., braille, large print, audiotape, or compact disc) on request to the person listed under FOR FURTHER INFORMATION CONTACT.

Electronic Access to This Document: The official version of this document is the document published in the Federal Register. Free Internet access to the official edition of the Federal Register and the Code of Federal Regulations is available via the Federal Digital System at: www.gpo.gov/fdsys. At this site you can view this document, as well as all other documents of the Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: January 17, 2017.
James W. Runcie,
Chief Operating Officer, Federal Student Aid.

For the reasons discussed in the preamble, the Chief Operating Officer of Federal Student Aid (FSA), U.S. Department of Education (Department or ED), publishes a notice of an altered system of records to read as follows:

SYSTEM NUMBER:

18-11-20

SYSTEM NAME:

Health Education Assistance Loan (HEAL) program.

SECURITY CLASSIFICATION:

None.

SYSTEM LOCATION:

Office of Information Technology Parklawn Data Center, Health Resources and Services Administration, U.S. Department of Health and Human Services (HHS), 5600 Fishers Lane, Room 9-105, Rockville, MD 20857 (HEAL program data center).

CATEGORIES OF INDIVIDUALS COVERED BY THE SYSTEM:

The HEAL program system covers recipients of HEAL program loans that remain outstanding. This system also contains records on HEAL program loans that are paid in full.

CATEGORIES OF RECORDS IN THE SYSTEM:

Each HEAL recipient record contains the borrower's name, contact information (such as email address and telephone number), area of practice, Social Security number (SSN) or other identifying number, birth date, demographic background, educational status, loan location and status, and financial information about the individual for whom the record is maintained. Each loan record contains lender and school identification information.

AUTHORITY FOR MAINTENANCE OF THE SYSTEM:

The authority for maintenance of the system includes sections 701 and 702 of the Public Health Service Act, as amended (PHS Act) (42 U.S.C. 292 and 292a), which authorize the establishment of a Federal program of student loan insurance; section 715 of the PHS Act (42 U.S.C. 292n), which directs the Secretary of Education to require institutions to provide information for each student who has a loan; section 709(c) of the PHS Act (42 U.S.C. 292h(c)), which authorizes disclosure and publication of HEAL defaulters; the Debt Collection Improvement Act (31 U.S.C. 3701 and 3711-3720E); and the Consolidated Appropriations Act, 2014, Div. H, title V, section 525 of Public Law 113-76, which transferred the authority to administer the HEAL program from the Secretary of HHS to the Secretary of Education.

PURPOSES:

The information maintained in this system of records is used for the following purposes:

(1) To verify the identity of an individual;

(2) To determine program benefits;

(3) To enforce the conditions or terms of a loan;

(4) To service, collect, assign, adjust, transfer, refer, or discharge a loan;

(5) To counsel a debtor in repayment efforts;

(6) To investigate possible fraud or abuse or verify compliance with program regulations;

(7) To locate a delinquent or defaulted borrower or an individual obligated to repay a loan;

(8) To prepare a debt for litigation, provide support services for litigation on a debt, litigate a debt, or audit the results of litigation on a debt;

(9) To prepare for, conduct, enforce, or assist in the conduct or enforcement of a Medicare Exclusion of the individual in default on a HEAL loan;

(10) To ensure that program requirements are met by HEAL program participants;

(11) To verify whether a debt qualifies for discharge, cancellation, or forgiveness;

(12) To conduct credit checks or respond to inquiries or disputes arising from information on the debt already furnished to a credit-reporting agency;

(13) To investigate complaints, update information, or correct errors contained in Department records;

(14) To refund credit balances to the individual or loan holder;

(15) To allow HEAL program participants to report information to the Department on all aspects of HEAL loans in uniform formats;

(16) To report to the Internal Revenue Service (IRS) information required by law to be reported, including, but not limited to, reports required by 26 U.S.C. 6050P and 6050S;

(17) To compile and generate managerial and statistical reports; and

(18) To carry out the statutory requirement to compile and publish a list of the HEAL program borrowers who are in default.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the information in the record was collected. These disclosures may be made on a case-by-case basis, or, if the Department has complied with the computer matching requirements of the Privacy Act of 1974, as amended (Privacy Act), under a computer matching agreement. Return information that the Department obtains from the Internal Revenue Service (IRS) (i.e., taxpayer mailing address) under the authority in 26 U.S.C. 6103(m)(2) or (m)(4) may be disclosed only as authorized by 26 U.S.C. 6103.

(1) Program Disclosures. The Department may disclose records for the following program purposes:

(a) To verify the identity of the individual whom records indicate has received the loan, disclosures may be made to HEAL program participants, and their authorized representatives; Federal, State, or local agencies, and their authorized representatives; private parties, such as relatives, business and personal associates; educational and financial institutions; present and former employers; collection agencies; creditors; consumer reporting agencies; adjudicative bodies; and the individual whom the records identify as the party obligated to repay the debt;

(b) To determine program benefits, disclosures may be made to HEAL program participants, and their authorized representatives; Federal, State, or local agencies, and their authorized representatives; private parties, such as relatives, business and personal associates; educational and financial institutions; present and former employers; to creditors; consumer reporting agencies; and adjudicative bodies;

(c) To enforce the conditions or terms of the loan, disclosures may be made to HEAL program participants; educational and financial institutions, and their authorized representatives; Federal, State, or local agencies, and their authorized representatives; private parties, such as relatives, business and personal associates, and present and former employers; creditors; consumer reporting agencies; and adjudicative bodies;

(d) To permit servicing, collecting, assigning, adjusting, transferring, referring, or discharging a loan, disclosures may be made to HEAL program participants; educational institutions, or financial institutions that made, held, serviced, or have been assigned the debt, and their authorized representatives; a party identified by the debtor as willing to advance funds to repay the debt; Federal, State, or local agencies, and their authorized representatives; private parties, such as relatives, business and personal associates, and present and former employers; creditors; consumer reporting agencies; and adjudicative bodies;

(e) To counsel a debtor in repayment efforts, disclosures may be made to HEAL program participants; educational and financial institutions, and their authorized representatives; and Federal, State, or local agencies, and their authorized representatives;

(f) To investigate possible fraud or abuse or verify compliance with any applicable statutory, regulatory, or legally binding requirement, disclosures may be made to HEAL program participants; educational and financial institutions, and their authorized representatives; Federal, State, or local agencies, and their authorized representatives; private parties, such as relatives, present and former employers, and business and personal associates; creditors; consumer reporting agencies; and adjudicative bodies;

(g) To locate a delinquent or defaulted borrower, or an individual obligated to repay a loan, disclosures may be made to HEAL program participants; educational and financial institutions, and their authorized representatives; Federal, State, or local agencies, and their authorized representatives; private parties, such as relatives, business and personal associates, and present and former employers; creditors; consumer reporting agencies; and adjudicative bodies;

(h) To prepare a debt for litigation, to provide support services for litigation on a debt, to litigate a debt, or to audit the results of litigation on a debt, disclosures may be made to HEAL program participants, and their authorized representatives; Federal, State, or local agencies, and their authorized representatives; and adjudicative bodies;

(i) To prepare for, conduct, enforce, or assist in the conduct or enforcement of a Medicare exclusion action, disclosures may be made to HEAL program participants; educational or financial institutions, and their authorized representatives; Federal, State, or local agencies, and their authorized representatives; and adjudicative bodies;

(j) To ensure that HEAL program requirements are met by HEAL program participants, disclosures may be made to HEAL program participants; educational or financial institutions, and their authorized representatives; auditors engaged to conduct an audit of a HEAL program participant or of an educational or financial institution; Federal, State, or local agencies, and their authorized representatives; accrediting agencies; and adjudicative bodies;

(k) To verify whether a debt qualifies for discharge, forgiveness, or cancellation, disclosures may be made to HEAL program participants; educational and financial institutions, and their authorized representatives; Federal, State, or local agencies, and their authorized representatives; private parties, such as relatives, present and former employers, and business and personal associates; creditors; consumer reporting agencies; and adjudicative bodies;

(l) To conduct credit checks or to respond to inquiries or disputes arising from information on the debt already furnished to a credit reporting agency, disclosures may be made to credit reporting agencies; HEAL program participants; educational and financial institutions, and their authorized representatives; Federal, State, or local agencies, and their authorized representatives; private parties, such as relatives, present and former employers, and business and personal associates; creditors; and adjudicative bodies;

(m) To investigate complaints or to update information or correct errors contained in Department records, disclosures may be made to HEAL program participants; educational and financial institutions, and their authorized representatives; Federal, State, or local agencies, and their authorized representatives; private parties, such as relatives, present and former employers, and business and personal associates; creditors; credit reporting agencies; and adjudicative bodies;

(n) To refund credit balances that are processed through the Department's systems, as well as the U.S. Department of the Treasury's (Treasury's) payment applications, to the individual or loan holder, disclosures may be made to HEAL program participants; educational and financial institutions, and their authorized representatives; Federal, State, or local agencies, and their authorized representatives; private parties, such as relatives, present and former employers, and business and personal associates; and creditors;

(o) To allow the reporting of information to the Department on all aspects of loans made under the HEAL program in uniform formats and to permit the Department directly to compare data submitted to the Department by HEAL program participants, educational and financial institutions, or third-party servicers, disclosures may be made to HEAL program participants and to educational and financial institutions;

(p) To report information required by law to be reported, including, but not limited to, reports required by 26 U.S.C. 6050P and 6050S, disclosures may be made to the IRS; and

(q) To allow the Department to make disclosures to governmental entities at the Federal, State, local, or tribal levels regarding the practices of Department contractors who have been provided with access to the HEAL program system with regards to all aspects of loans made under the HEAL program, in order to permit these governmental entities to verify the contractor's compliance with debt collection, financial, and other applicable statutory, regulatory, or local requirements. Before making a disclosure to these Federal, State, local or tribal governmental entities, the Department will require them to maintain Privacy Act safeguards to protect the security and confidentiality of the disclosed records.

(2) Feasibility Study Disclosure. The Department may disclose information from this system of records to other Federal agencies, and to guaranty agencies and to their authorized representatives, to determine whether computer matching programs should be conducted by the Department for purposes such as to locate a delinquent or defaulted debtor or to verify compliance with program regulations.

(3) Disclosure for Use by Other Law Enforcement Agencies. The Department may disclose information to any Federal, State, local, tribal, or foreign agency or other public authority responsible for enforcing, investigating, or prosecuting violations of administrative, civil, or criminal law or regulation if that information is relevant to any enforcement, regulatory, investigative, or prosecutorial responsibility within the receiving entity's jurisdiction.

(4) Enforcement Disclosure. In the event that information in this system of records indicates, either alone or in connection with other information, a violation or potential violation of any applicable statutory, regulatory, or legally binding requirement, the Department may disclose the relevant records to an entity charged with the responsibility for investigating or enforcing those violations or potential violations.

(5) Litigation and Alternative Dispute Resolution (ADR) Disclosure.

(a) Introduction. In the event that one of the parties listed below is involved in judicial or administrative litigation or ADR, or has an interest in such litigation or ADR, the Department may disclose certain records to the parties described in paragraphs (b), (c), and (d) of this routine use under the conditions specified in those paragraphs:

(i) The Department or any of its components;

(ii) Any Department employee in his or her official capacity;

(iii) Any Department employee in his or her individual capacity where the Department of Justice (DOJ) has been requested to or agrees to provide or arrange for representation for the employee;

(iv) Any Department employee in his or her individual capacity where the Department has agreed to represent the employee; and

(v) The United States, where the Department determines that the litigation is likely to affect the Department or any of its components.

(b) Disclosure to the DOJ. If the Department determines that disclosure of certain records to the DOJ is relevant and necessary to the judicial or administrative litigation or ADR, the Department may disclose those records as a routine use to the DOJ.

(c) Adjudicative Disclosure. If the Department determines that disclosure of certain records to an adjudicative body before which the Department is authorized to appear or to an individual or an entity designated by the Department or otherwise empowered to resolve or mediate disputes is relevant and necessary to the judicial or administrative litigation or ADR, the Department may disclose those records as a routine use to the adjudicative body, individual, or entity.

(d) Parties, Counsel, Representatives, and Witnesses. If the Department determines that disclosure of certain records to a party, counsel, representative, or witness is relevant and necessary to the judicial or administrative litigation or ADR, the Department may disclose those records as a routine use to the party, counsel, representative, or witness.

(6) Employment, Benefit, and Contracting Disclosure.

(a) For Decisions by the Department. The Department may disclose a record to a Federal, State, or local agency maintaining civil, criminal, or other relevant enforcement or other pertinent records, or to another public authority or professional organization, if necessary to obtain information relevant to a Department decision concerning the hiring or retention of an employee or other personnel action, the issuance of a security clearance, the letting of a contract, or the issuance of a license, grant, or other benefit.

(b) For Decisions by Other Public Agencies and Professional Organizations. The Department may disclose a record to a Federal, State, local, or other public authority or professional organization, in connection with the hiring or retention of an employee or other personnel action, the issuance of a security clearance, the reporting of an investigation of an employee, the letting of a contract, or the issuance of a license, grant, or other benefit, to the extent that the record is relevant and necessary to the receiving entity's decision on the matter.

(7) Employee Grievance, Complaint, or Conduct Disclosure. If a record is relevant and necessary to an employee grievance, complaint, or disciplinary action, the Department may disclose the record in this system of records in the course of investigation, fact-finding, or adjudication to any witness, designated fact-finder, mediator, or other person designated to resolve issues or decide the matter.

(8) Labor Organization Disclosure. The Department may disclose a record from this system of records to an arbitrator to resolve disputes under a negotiated grievance procedure or to officials of a labor organization recognized under 5 U.S.C. chapter 71 when relevant and necessary to their duties of exclusive representation.

(9) Freedom of Information Act (FOIA) and Privacy Act Advice Disclosure. The Department may disclose records to the DOJ or to the Office of Management and Budget (OMB) if the Department determines that disclosure is desirable or necessary in determining whether particular records are required to be disclosed under the FOIA or the Privacy Act.

(10) Disclosure to the DOJ. The Department may disclose records to the DOJ, or the authorized representative of DOJ, to the extent necessary for obtaining DOJ advice on any matter relevant to an audit, inspection, or other inquiry related to the programs covered by this system.

(11) Contracting Disclosure. If the Department contracts with an entity for the purposes of performing any function that requires disclosure of records in this system to employees of the contractor, the Department may disclose the records to those employees. Before entering into such a contract, the Department shall require the contractor to maintain Privacy Act safeguards as required under 5 U.S.C. 552a(m) of the Privacy Act with respect to the records in the system.

(12) Research Disclosure. The Department may disclose records to a researcher if the Department determines that the individual or organization to which the disclosure would be made is qualified to carry out specific research related to functions or purposes of this system of records. The Department may disclose records from this system of records to that researcher solely for the purpose of carrying out that research related to the functions or purposes of this system of records. The researcher shall be required to maintain Privacy Act safeguards with respect to the disclosed records.

(13) Congressional Member Disclosure. The Department may disclose the records of an individual to a Member of Congress in response to an inquiry from the Member made at the written request of that individual whose records are being disclosed. The Member's right to the information is no greater than the right of the individual who requested the inquiry.

(14) Disclosure to OMB for Credit Reform Act (CRA) Support. The Department may disclose records to OMB as necessary to fulfill CRA requirements. These requirements currently include transfer of data on lender interest benefits and special allowance payments, defaulted loan balances, and supplemental pre-claims assistance payments information.

(15) Disclosure in the Course of Responding to a Breach of Data. The Department may disclose records to appropriate agencies, entities, and persons when (a) the Department suspects or has confirmed that the security or confidentiality of information in a system covered by this system of records notice has been compromised; (b) the Department has determined that as a result of the suspected or confirmed compromise there is a risk of harm to economic or property interests, identity theft or fraud, or harm to the security or integrity of this system or other system or programs (whether maintained by the Department or another agency or entity) that rely upon the compromised information; and (c) the disclosure made to such agencies, entities, and persons is reasonably necessary to assist in connection with the Department's efforts to respond to the suspected or confirmed compromise and prevent, minimize, or remedy such harm.

(16) Disclosure to Third Parties through Computer Matching Programs. Unless otherwise prohibited by other laws, any information from this system of records, including personal information obtained from other agencies through computer matching programs, may be disclosed to any third party through a computer matching program, which is conducted under a Computer Matching Agreement between the Department and the third party, and requires that the matching be conducted in compliance with the requirements of the Privacy Act. Purposes of these disclosures may be: (a) To establish or verify program eligibility and benefits, (b) to establish or verify compliance with program regulations or statutory requirements, such as to investigate possible fraud or abuse; and (c) to recoup payments or delinquent debts under any Federal benefit programs, such as to locate or take legal action against a delinquent or defaulted debtor. At the time of the publication of this notice, the Department is not engaged in a computer matching program for the HEAL program.

(17) Disclosure of Information to Treasury. The Department may disclose records of this system to (a) a Federal or State agency, its employees, agents (including contractors of its agents), or contractors, or (b) a fiscal or financial agent designated by the Treasury, including employees, agents, or contractors of such agent, for the purpose of identifying, preventing, or recouping improper payments to an applicant for, or recipient of, Federal funds, including funds disbursed by a State in a State-administered, Federally funded program; and disclosure may be made to conduct computerized comparisons for this purpose.

(18) Disclosure of Defaulted Debtors in Federal Register Publication or on Designated Web sites. In accordance with the directive in 42 U.S.C. 292h(c), ED must publish in the Federal Register a list of borrowers who are in default on a HEAL loan. FSA intends to publish the names of the defaulted borrowers, last known city and state, area of practice, and amount of HEAL loan in default. FSA intends to publish the additional information about the borrower, as well as the names, in order to correctly identify the person in default and to provide relevant information to the intended recipients of this information, such as State licensing boards and hospitals. Additionally, this information may be published on a Defaulted Borrowers Web site, should the Department elect to reestablish this, or a similar, Web site. The Department may do this in order to provide the information to the intended recipients in a timely and effective way.

(19) Disclosure of Defaulted Debtors to Other Authorized Parties. In accordance with the directive in 42 U.S.C. 292h(c)(2), disclosure of borrowers who are in default on a HEAL loan may be made to relevant Federal agencies, schools, school associations, professional and specialty associations, State licensing boards, hospitals with which a HEAL loan defaulter may be associated, or other similar organizations.

DISCLOSURE TO CONSUMER REPORTING AGENCIES:

Disclosures pursuant to 5 U.S.C. 552a(b)(12) (as set forth in 31 U.S.C. 3711(e)): Disclosures may be made from this system to ”consumer reporting agencies,” as defined in the Fair Credit Reporting Act (15 U.S.C. 1681a(f)) or the Debt Collection Improvement Act (31 U.S.C. 3701(a)(3)). The purpose of these disclosures is to provide an incentive for debtors to repay delinquent Federal Government debts by making these debts part of their credit records.

POLICIES AND PRACTICES FOR STORING, RETRIEVING, ACCESSING, RETAINING, AND DISPOSING OF RECORDS IN THE SYSTEM:

STORAGE:

Records are maintained in database servers, file folders, CDs, DVDs, and magnetic tapes.

RETRIEVABILITY:

Records are retrieved by SSN or other identifying number.

SAFEGUARDS:

Authorized users: Access to the system is limited to authorized HEAL program personnel and contractors responsible for administering the HEAL program. Authorized personnel include ED employees and officials, financial and fiscal management personnel, computer personnel and program managers who have responsibilities for implementing the HEAL program. Read-only users: Read-only access is given to servicers, holders, and financial/fiscal management personnel.

Physical safeguards: Magnetic tapes, disc packs, computer equipment, and other forms of personal data are stored in areas where fire and life safety codes are strictly enforced. All documents are protected during lunch hours and nonworking hours in locked file cabinets or locked storage areas. Security guards are staffed 24 hours a day, seven days a week, to perform random checks on the physical security of the records storage areas.

Procedural safeguards: A password is required to access the terminal and a data set name controls the release of data to only authorized users. All users of personal information in connection with the performance of their jobs protect information from public view and from unauthorized personnel entering an unsupervised office. In addition, all sensitive data is encrypted using Oracle Transparent Data Encryption functionality. Access to records is strictly limited to those staff members trained in accordance with the Privacy Act and automatic data processing (ADP) security procedures. Contractors are required to maintain, and are also required to ensure that subcontractors maintain, confidentiality safeguards with respect to these records. Contractors and subcontractors are instructed to make no further disclosure of the records except as authorized by the System Manager and permitted by the Privacy Act. All individuals who have access to these records receive the appropriate ADP security clearances. ED personnel make site visits to ADP facilities for the purpose of ensuring that ADP security procedures continue to be met. Privacy Act and ADP system security requirements are specifically included in contracts. The HEAL program project directors, project officers, and the system manager oversee compliance with these requirements.

Implementing guidelines: The safeguards described above were established in accordance with HHS Chapter 45-13 and supplementary Chapter PHS.hf: 45-13 of HHS' General Administration Manual.

RETENTION AND DISPOSAL:

In accordance with the Department's record retention and disposition schedule, records for HEAL program awards are retained for seven years after final payment or discharge of the loan, whichever is sooner, and thereafter destroyed.

SYSTEM MANAGER AND ADDRESS:

Valerie Sherrer, Director, Systems Integration Division, Systems Operations and Aid Delivery Management Services, Business Operations, Federal Student Aid, U.S. Department of Education, 830 First Street NE., Room 44F1, UCP, Washington, DC 20202-5454. Telephone: (202) 377-3547.

NOTIFICATION PROCEDURE:

If you wish to determine whether a record exists about you in the system of records, provide the System Manager with your name, date of birth, and SSN. Your request must meet the requirements of the regulations in 34 CFR 5b.5, including proof of identity.

RECORD ACCESS PROCEDURES:

If you wish to gain access to your record in the system of records, provide the System Manager with your name, date of birth, and SSN. Requests by an individual for access to a record must meet the requirements of the regulations in 34 CFR 5b.5, including proof of identity.

CONTESTING RECORD PROCEDURE:

If you wish to contest the content of your record in the system of records, provide the System Manager with your name, date of birth, and SSN as well as a reasonable description of the record, specify the information being contested, the corrective action sought, and the reasons for requesting the correction, along with supporting information to show how the record is inaccurate, incomplete, untimely, or irrelevant. Requests by an individual to amend a record must meet the requirements of the regulations in 34 CFR 5b.7.

RECORD SOURCE CATEGORIES:

Record source categories include individual loan recipients, HEAL schools, lenders, holders of HEAL loans and their agents, HHS, and other Federal agencies.

EXEMPTIONS CLAIMED FOR THE SYSTEM:

None.

[FR Doc. 2017-01434 Filed 1-19-17; 8:45 am]

BILLING CODE 4000-01-P